SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: April 1-30, 2015.

ADDRESSES: Susquehanna River Basin Commission, 4423 North Front Street, Harrisburg, PA 17110-1788.

FOR FURTHER INFORMATION CONTACT: Jason E. Oyler, Regulatory Counsel, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(f) for the time period specified above:

Approvals by Rule Issued Under 18 CFR 806.22(f)

1. Chesapeake Appalachia, LLC, Pad ID: Redmond, ABR-201007005.R1, Meshoppen Township, Wyoming County, Pa.; Consumptive Use of Up to 7.500 mgd; Approval Date: April 3, 2015.

2. Chesapeake Appalachia, LLC, Pad ID: EDF NEW, ABR-201007125.R1, Mehoopany Township, Wyoming County, Pa.; Consumptive Use of Up to 7.500 mgd; Approval Date: April 3, 2015.

3. Chesapeake Appalachia, LLC, Pad ID: Warren, ABR-201008010.R1, Windham Township, Wyoming County, Pa.; Consumptive Use of Up to 7.500 mgd; Approval Date: April 3, 2015.

4. Chesapeake Appalachia, LLC, Pad ID: Lambert Farms, ABR-201008011.R1, Forks Township, Sullivan County, Pa.; Consumptive Use of Up to 7.500 mgd; Approval Date: April 3, 2015.

5. Chesapeake Appalachia, LLC, Pad ID: Joanclark, ABR-201008025.R1, Fox Township, Sullivan County, Pa.; Consumptive Use of Up to 7.500 mgd; Approval Date: April 3, 2015.

6. Chesapeake Appalachia, LLC, Pad ID: Roundtop, ABR-201008067.R1, Colley Township, Sullivan County, Pa.; Consumptive Use of Up to 7.500 mgd; Approval Date: April 3, 2015.

7. Chesapeake Appalachia, LLC, Pad ID: George, ABR-201008101.R1, Windham Township, Wyoming County, Pa.; Consumptive Use of Up to 7.500 mgd; Approval Date: April 3, 2015.

8. Chesapeake Appalachia, LLC, Pad ID: Bedford, ABR-201008139.R1, Elkland Township, Sullivan County, Pa.; Consumptive Use of Up to 7.500 mgd; Approval Date: April 3, 2015.

9. Chesapeake Appalachia, LLC, Pad ID: Benspond, ABR-201008146.R1, Elkland Township, Sullivan County, Pa.; Consumptive Use of Up to 7.500 mgd; Approval Date: April 3, 2015.

10. Chesapeake Appalachia, LLC, Pad ID: Fremar, ABR-201008147.R1, Fox Township, Sullivan County, Pa.; Consumptive Use of Up to 7.500 mgd; Approval Date: April 3, 2015.

11. Chesapeake Appalachia, LLC, Pad ID: Hottenstein, ABR-201008148.R1, Forks Township, Sullivan County, Pa.; Consumptive Use of Up to 7.500 mgd; Approval Date: April 3, 2015.

12. EXCO Resources (PA), LLC Pad ID: Litke (14H, 15H, 16H), ABR-20090431.R1, Burnside Township, Centre County, Pa.; Consumptive Use of Up to 5.000 mgd; Approval Date: April 3, 2015.

13. EXCO Resources (PA), LLC Pad ID: COP Tract 706 (Pad 8) ABR-201008059.R1, Burnside Township, Centre County, Pa.; Consumptive Use of Up to 8.000 mgd; Approval Date: April 3, 2015.

14. XTO Energy Inc., Pad ID: MARQUARDT UNIT 8517H, ABR-20100417.R1, Penn Township, Lycoming County, Pa.; Consumptive Use of Up to 4.000 mgd; Approval Date: April 3, 2015.

15. XTO Energy Inc., Pad ID: Everbe Farms 8518H, ABR-20100533.R1, Franklin Township, Lycoming County, Pa.; Consumptive Use of Up to 4.000 mgd; Approval Date: April 3, 2015.

16. Anadarko E&P Onshore LLC, Pad ID: COP Tr 685 A, ABR-20100541.R1, Cummings Township, Lycoming County, Pa.; Consumptive Use of Up to 3.000 mgd; Approval Date: April 8, 2015.

17. Anadarko E&P Onshore LLC, Pad ID: COP Tr 728 Pad A, ABR-20100631.R1, Watson Township, Lycoming County, Pa.; Consumptive Use of Up to 3.000 mgd; Approval Date: April 8, 2015.

18. Anadarko E&P Onshore LLC, Pad ID: David C Duncan Pad A, ABR-20100635.R1, Cascade Township, Lycoming County, Pa.; Consumptive Use of Up to 3.000 mgd; Approval Date: April 8, 2015.

19. Chesapeake Appalachia, LLC, Pad ID: Barnes, ABR-201007048.R1, Smithfield Township, Bradford County, Pa.; Consumptive Use of Up to 7.500 mgd; Approval Date: April 8, 2015.

20. Chesapeake Appalachia, LLC, Pad ID: Scheffler, ABR-201007102.R1, Standing Stone Township, Bradford County, Pa.; Consumptive Use of Up to 7.500 mgd; Approval Date: April 8, 2015.

21. Chesapeake Appalachia, LLC, Pad ID: Champluvier, ABR-201007105.R1, Tuscarora Township, Bradford County, Pa.; Consumptive Use of Up to 7.500 mgd; Approval Date: April 8, 2015.

22. Chesapeake Appalachia, LLC, Pad ID: Covington, ABR-201007123.R1, Sheshequin Township, Bradford County, Pa.; Consumptive Use of Up to 7.500 mgd; Approval Date: April 8, 2015.

23. Chesapeake Appalachia, LLC, Pad ID: Felter-NEW, ABR-201008026.R1, Wyalusing Township, Bradford County, Pa.; Consumptive Use of Up to 7.500 mgd; Approval Date: April 8, 2015.

24. Chesapeake Appalachia, LLC, Pad ID: Atgas, ABR-201008066.R1, Leroy Township, Bradford County, Pa.; Consumptive Use of Up to 7.500 mgd; Approval Date: April 8, 2015.

25. Chesapeake Appalachia, LLC, Pad ID: Ammerman, ABR-201008099.R1, Litchfield Township, Bradford County, Pa.; Consumptive Use of Up to 7.500 mgd; Approval Date: April 8, 2015.

26. Chesapeake Appalachia, LLC, Pad ID: Dave, ABR-201008107.R1, Albany Stone Township, Bradford County, Pa.; Consumptive Use of Up to 7.500 mgd; Approval Date: April 8, 2015.

27. Seneca Resources, Pad ID: CRV Pad C09-D, ABR-201504001, Shippen Township, Cameron County, Pa.; Consumptive Use of Up to 4.000 mgd; Approval Date: April 8, 2015.

28. Range Resources—Appalachia, LLC, Pad ID: Cornwall South Unit, ABR-201504002, Lewis Township, Lycoming County, Pa.; Consumptive Use of Up to 5.000 mgd; Approval Date: April 8, 2015.

29. Range Resources—Appalachia, LLC, Pad ID: Cornhill A Well Pad, ABR-201504003, Cogan House Township, Lycoming County, Pa.; Consumptive Use of Up to 5.000 mgd; Approval Date: April 8, 2015.

30. SWEPI, LP, Pad ID: 808 Thomas, ABR-20100344.R1, Elkland Township, Tioga County, Pa.; Consumptive Use of Up to 4.990 mgd; Approval Date: April 8, 2015.

31. SWEPI, LP, Pad ID: Cummings 823, ABR-20100350.R1, Chatham Township, Tioga County, Pa.; Consumptive Use of Up to 4.000 mgd; Approval Date: April 8, 2015.

32. SWEPI, LP, Pad ID: Bartlett 531, ABR-20100351.R1, Richmond Township, Tioga County, Pa.; Consumptive Use of Up to 4.000 mgd; Approval Date: April 8, 2015.

33. Cabot Oil & Gas Corporation, Pad ID: ChambersO P1, ABR-201504004, Harford Township, Susquehanna County, Pa.; Consumptive Use of Up to 4.250 mgd; Approval Date: April 13, 2015.

34. Cabot Oil & Gas Corporation, Pad ID: DeckerT P1, ABR-201504005, Harford Township, Susquehanna County, Pa.; Consumptive Use of Up to 4.250 mgd; Approval Date: April 13, 2015.

35. Chesapeake Appalachia, LLC, Pad ID: Lattimer, ABR-201008038.R1, Litchfield Township, Bradford County, Pa.; Consumptive Use of Up to 7.500 mgd; Approval Date: April 13, 2015.

36. Chesapeake Appalachia, LLC, Pad ID: Moore Farm, ABR-201008050.R1, Canton Township, Bradford County, Pa.; Consumptive Use of Up to 7.500 mgd; Approval Date: April 13, 2015.

37. Chesapeake Appalachia, LLC, Pad ID: Thall, ABR-201008140.R1, Albany Township, Bradford County, Pa.; Consumptive Use of Up to 7.500 mgd; Approval Date: April 13, 2015.

38. EQT Production Company, Pad ID: Phoenix C, ABR-201006114.R1, Duncan Township, Tioga County, Pa.; Consumptive Use of Up to 3.000 mgd; Approval Date: April 14, 2015.

39. EQT Production Company, Pad ID: Phoenix E, ABR-201008130.R1, Duncan Township, Tioga County, Pa.; Consumptive Use of Up to 3.000 mgd; Approval Date: April 14, 2015.

40. EQT Production Company, Pad ID: Phoenix H, ABR-201010058.R1, Morris Township, Tioga County, Pa.; Consumptive Use of Up to 3.000 mgd; Approval Date: April 14, 2015.

41. EQT Production Company, Pad ID: Phoenix R, ABR-201011057.R1, Duncan Township, Tioga County, Pa.; Consumptive Use of Up to 3.000 mgd; Approval Date: April 14, 2015.

42. EQT Production Company, Pad ID: Longhorn C-1 (WDV1), ABR-201011061.R1, Jay Township, Elk County, Pa.; Consumptive Use of Up to 3.000 mgd; Approval Date: April 14, 2015.

43. EQT Production Company, Pad ID: Phoenix S, ABR-201012009.R1, Duncan Township, Tioga County, Pa.; Consumptive Use of Up to 3.000 mgd; Approval Date: April 14, 2015.

44. SWEPI, LP, Pad ID: Kjelgaard, ABR-20090902.R1, Gaines Township, Tioga County, Pa.; Consumptive Use of Up to 4.990 mgd; Approval Date: April 16, 2015.

45. Seneca Resources Corporation, Pad ID: Wilcox Pad F, ABR-20090505.R1, Covington Township, Tioga County, Pa.; Consumptive Use of Up to 4.000 mgd; Approval Date: April 17, 2015.

46. Seneca Resources Corporation, Pad ID: J. Pino Pad G, ABR-20090717.R1, Covington Township, Tioga County, Pa.; Consumptive Use of Up to 4.000 mgd; Approval Date: April 17, 2015.

47. Seneca Resources Corporation, Pad ID: D.M. Pino Pad H, ABR-20090933.R1, Covington Township, Tioga County, Pa.; Consumptive Use of Up to 4.000 mgd; Approval Date: April 17, 2015.

48. Seneca Resources Corporation, Pad ID: Marvin 1V Pad, ABR-20090934.R1, Covington Township, Tioga County, Pa.; Consumptive Use of Up to 5.000 mgd; Approval Date: April 17, 2015.

49. Seneca Resources Corporation, Pad ID: Rich Valley 1V Pad, ABR-20091227.R1, Shippen Township, Cameron County, Pa.; Consumptive Use of Up to 5.000 mgd; Approval Date: April 17, 2015.

50. Cabot Oil & Gas Corporation, Pad ID: WarrinerR P4, ABR-201008123.R1, Dimock Township, Susquehanna County, Pa.; Consumptive Use of Up to 3.575 mgd; Approval Date: April 20, 2015.

51. Chesapeake Appalachia, LLC, Pad ID: Aikens, ABR-201008068.R1, Litchfield Township, Bradford County, Pa.; Consumptive Use of Up to 7.500 mgd; Approval Date: April 20, 2015.

52. Chesapeake Appalachia, LLC, Pad ID: Donna, ABR-201008096.R1, Terry Township, Bradford County, Pa.; Consumptive Use of Up to 7.500 mgd; Approval Date: April 20, 2015.

53. Chesapeake Appalachia, LLC, Pad ID: Clarke, ABR-201008145.R1, Overton Township, Bradford County, Pa.; Consumptive Use of Up to 7.500 mgd; Approval Date: April 20, 2015.

54. Chesapeake Appalachia, LLC, Pad ID: Balent NEW, ABR-201008149.R1, Wysox Township, Bradford County, Pa.; Consumptive Use of Up to 7.500 mgd; Approval Date: April 20, 2015.

55. Chesapeake Appalachia, LLC, Pad ID: McCabe, ABR-201008157.R1, Towanda Township, Bradford County, Pa.; Consumptive Use of Up to 7.500 mgd; Approval Date: April 20, 2015.

56. Chesapeake Appalachia, LLC, Pad ID: Wolf, ABR-201008158.R1, Athens Township, Bradford County, Pa.; Consumptive Use of Up to 7.500 mgd; Approval Date: April 20, 2015.

57. EOG Resources, Inc., Pad ID: GUINAN 2H, ABR-20091117.R1, Springfield Township, Bradford County, Pa.; Consumptive Use of Up to 1.999 mgd; Approval Date: April 22, 2015.

58. EOG Resources, Inc., Pad ID: HOPPAUGH 3H, ABR-20091121.R1, Springfield Township, Bradford County, Pa.; Consumptive Use of Up to 1.999 mgd; Approval Date: April 22, 2015.

59. EOG Resources, Inc., Pad ID: HARKNESS 3H, ABR-20091221.R1, Springfield Township, Bradford County, Pa.; Consumptive Use of Up to 1.999 mgd; Approval Date: April 22, 2015.

60. EOG Resources, Inc., Pad ID: BEARDSLEE 2H Pad, ABR-201008085.R1, Springfield Township, Bradford County, Pa.; Consumptive Use of Up to 4.999 mgd; Approval Date: April 22, 2015.

61. EOG Resources, Inc., Pad ID: GROSS 1H Pad, ABR-201008098.R1, Springfield Township, Bradford County, Pa.; Consumptive Use of Up to 4.999 mgd; Approval Date: April 22, 2015.

62. Seneca Resources Corporation, Pad ID: Wolfinger, ABR-20091229.R1, Shippen Township, Cameron County, Pa.; Consumptive Use of Up to 5.000 mgd; Approval Date: April 27, 2015.

63. SWN Production Company LLC, Pad ID: NR-25 NOWICKI, ABR-201504006, Oakland Township, Susquehanna County, Pa.; Consumptive Use of Up to 4.999 mgd; Approval Date: April 27, 2015.

64. SWN Production Company LLC, Pad ID: NR-05 BAC Realty, ABR-201504007, New Milford Township, Susquehanna County, Pa.; Consumptive Use of Up to 4.999 mgd; Approval Date: April 27, 2015.

65. Chesapeake Appalachia, LLC, Pad ID: Strope, ABR-201007035.R1, Ulster Township, Bradford County, Pa.; Consumptive Use of Up to 7.500 mgd; Approval Date: April 27, 2015.

66. Chesapeake Appalachia, LLC, Pad ID: Burleigh, ABR-201009067.R1, Wyalusing Township, Bradford County, Pa.; Consumptive Use of Up to 7.500 mgd; Approval Date: April 27, 2015.

67. Chesapeake Appalachia, LLC, Pad ID: Foster, ABR-201009093.R1, Wysox Township, Bradford County, Pa.; Consumptive Use of Up to 7.500 mgd; Approval Date: April 27, 2015.

68. Chesapeake Appalachia, LLC, Pad ID: Curtis New, ABR-201009100.R1, Asylum Township, Bradford County, Pa.; Consumptive Use of Up to 7.500 mgd; Approval Date: April 27, 2015.

69. Seneca Resources Corporation, Pad ID: DCNR 595 Pad E, ABR-20100307.R1, Blossburg Borough, Tioga County, Pa.; Consumptive Use of Up to 4.000 mgd; Approval Date: April 29, 2015.

70. Seneca Resources Corporation, Pad ID: Wivell Pad 1, ABR-20100607.R1, Covington Township, Tioga County, Pa.; Consumptive Use of Up to 4.000 mgd; Approval Date: April 29, 2015.

71. Seneca Resources Corporation, Pad ID: Valldes Pad C, ABR-20100620.R1, Covington Township, Tioga County, Pa.; Consumptive Use of Up to 4.000 mgd; Approval Date: April 29, 2015.

72. Seneca Resources Corporation, Pad ID: Warren Pad B, ABR-20100621.R1, Richmond Township, Tioga County, Pa.; Consumptive Use of Up to 4.000 mgd; Approval Date: April 29, 2015.

73. Seneca Resources Corporation, Pad ID: Lehmann Pad K, ABR-201007115.R1, Covington Township, Tioga County, Pa.; Consumptive Use of Up to 4.000 mgd; Approval Date: April 29, 2015.

74. Seneca Resources Corporation, Pad ID: DCNR Tract 595 Pad I, ABR-201008043.R1, Bloss Township, Tioga County, Pa.; Consumptive Use of Up to 4.000 mgd; Approval Date: April 29, 2015.

75. Seneca Resources Corporation, Pad ID: DCNR Tract 595 Pad F, ABR-201008044.R1, Bloss Township, Tioga County, Pa.; Consumptive Use of Up to 4.000 mgd; Approval Date: April 29, 2015.

76. Seneca Resources Corporation, Pad ID: Covington Pad L, ABR-201008065.R1, Covington Township, Tioga County, Pa.; Consumptive Use of Up to 4.000 mgd; Approval Date: April 29, 2015.

77. Chesapeake Appalachia, LLC, Pad ID: Wygrala, ABR-201009072.R1, Wysox Township, Bradford County, Pa.; Consumptive Use of Up to 7.500 mgd; Approval Date: April 29, 2015.

Authority: Public Law 91-575, 84 Stat. 1509 et seq., 18 CFR parts 806, 807, and 808.

Dated: May 15, 2015.
Andrew D. Dehoff,
Executive Director.

[FR Doc. 2015-12203 Filed 5-19-15; 8:45 am]

BILLING CODE 7040-01-P